INTERNATIONAL TRADE COMMISSION

[Investigation Nos. 731-TA-1146-1147 (Final)]

1-Hydroxyethylidene-1,1-Diphosphonic Acid (HEDP) From China and India

Determination

On the basis of the record ¹ developed in the subject investigations, the United States International Trade Commission (Commission) determines, pursuant to section 735(b) of the Tariff Act of 1930 (19 U.S.C. 1673d(b)) (the Act), that an industry in the United States is threatened with material injury by reason of imports from China and India of 1-Hydroxyethylidene-1,1-diphosphonic acid (HEDP), provided for in statistical reporting number 2931.00.9043 of the Harmonized Tariff Schedule of the United States, that have been found by the United States Department of Commerce (Commerce) to be sold in the United States at less than fair value (LTFV).² In addition, the Commission determines that it would not have found material injury but for the suspension of liquidation.

¹ The record is defined in sec. 207.2(f) of the Commission's Rules of Practice and Procedure (19 CFR 207.2(f)).

² Commissioner Charlotte R. Lane determines that an industry in the United States is materially injured by reason of such imports.

Background

The Commission instituted these investigations effective March 19, 2008, following receipt of a petition filed with the Commission and Commerce by Compass Chemical International, LLC, Huntsville, TX. The final phase of these investigations was scheduled by the Commission following notification of a preliminary determination by Commerce that imports of HEDP from China and India were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of November 14, 2008 (73 FR 67545) (subsequently revised in a notice published on January 30, 2009 (74 FR 5677)). The hearing was held in Washington, DC, on March 3, 2009, and all persons who requested the opportunity were permitted to appear in person or by counsel.

The Commission transmitted its determination in these investigations to the Secretary of Commerce on April 17, 2009. The views of the Commission are contained in USITC Publication 4072 (April 2009), entitled HEDP from China and India: Investigation Nos. 731-TA-1146-1147 (Final).

By order of the Commission.
Issued: April 17, 2009.
Marilyn R. Abbott,
Secretary to the Commission.

[FR Doc. E9-9279 Filed 4-22-09; 8:45 am]

BILLING CODE 7020-02-P